DEPARTMENT OF COMMERCE

Foreign-Trade Zones Board

[Order No. 1883]

Approval for Expansion of Manufacturing Authority; Foreign-Trade Zone 104; Mitsubishi Power Systems Americas, Inc. (Power Generation Turbines); Pooler, GA

Pursuant to its authority under the Foreign-Trade Zones Act of June 18, 1934, as amended (19 U.S.C. 81a-81u), the Foreign-Trade Zones Board (the Board) adopts the following Order:

Whereas, the Savannah Airport Commission, grantee of FTZ 104, has requested an expansion of the scope of manufacturing authority on behalf of Mitsubishi Power Systems Americas, Inc. (MPSA), operator of Site 12, to include additional finished products and foreign components (FTZ Docket 11-2012, filed 2-23-2012);

Whereas, notice inviting public comment has been given in the Federal Register (77 FR 12799-12800, 3-2-2012) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand scope of FTZ manufacturing authority to include additional finished products and foreign components, as described in the application and Federal Register notice, is approved, subject to the FTZ Act and the Board's regulations, including Section 400.13.

Signed at Washington, DC, this 6th day of February 2013.
Paul Piquado,
Assistant Secretary of Commerce for Import Administration, Alternate Chairman, Foreign-Trade Zones Board.
Andrew McGilvray,
Executive Secretary.

[FR Doc. 2013-03308 Filed 2-12-13; 8:45 am]

BILLING CODE P